DEPARTMENT OF THE INTERIOR

Fish and Wildlife Service

50 CFR Part 17

[4500090022]

Endangered and Threatened Wildlife and Plants; 12-Month Findings on Petitions To List Eight Species as Endangered or Threatened Species

AGENCY: Fish and Wildlife Service, Interior.

ACTION: Notice of 12-month petition findings.

SUMMARY: We, the U.S. Fish and Wildlife Service (Service), announce 12-month findings on petitions to list eight species as endangered or threatened species under the Endangered Species Act of 1973, as amended (Act). After a thorough review of the best available scientific and commercial information, we find that it is not warranted at this time to list the Arkansas mudalia, ashy darter, Barrens darter, Chihuahua scurfpea, coldwater crayfish, Eleven Point River crayfish, Spring River crayfish, and red-crowned parrot. However, we ask the public to submit to us at any time any new information that becomes available relevant to the status of any of the species mentioned above or their habitats.

DATES: The findings in this document were made on April 4, 2019.

ADDRESSES: Detailed descriptions of the basis for each of these findings are available on the internet at http://www.regulations.gov under the following docket numbers:

Species | Docket No.
Arkansas mudalia | FWS-R4-ES-2019-0003
Ashy darter | FWS-R4-ES-2018-0059
Barrens darter | FWS-R4-ES-2018-0060
Chihuahua scurfpea | FWS-R2-ES-2018-0061
Coldwater crayfish, Eleven Point River crayfish, and Spring River crayfish | FWS-R3-ES-2019-0002
Red-crowned parrot | FWS-R2-ES-2018-0063

Supporting information used to prepare these findings is available for public inspection, by appointment, during normal business hours, by contacting the appropriate person, as specified under FOR FURTHER INFORMATION CONTACT. Please submit any new information, materials, comments, or questions concerning these findings to the appropriate person, as specified under FOR FURTHER INFORMATION CONTACT.

FOR FURTHER INFORMATION CONTACT:

Species | Contact information
Arkansas mudalia | Melvin Tobin, Field Supervisor, Arkansas Ecological Services Field Office, 501-513-4473.
Ashy darter | Michelle Eversen, Area Supervisor, Tennessee Ecological Services Field Office, 404-679-4108.
Barrens darter | Warren Stiles, Fish and Wildlife Biologist, Tennessee Ecological Services Field Office, 931-528-6481.
Chihuahua scurfpea | Mark W. Horner, Fish and Wildlife Biologist, New Mexico Ecological Services Field Office, 505-761-4723.
Coldwater crayfish, Eleven Point River crayfish, and Spring River crayfish | Karen Herrington, Field Supervisor, Missouri Ecological Services Field Office, 573-234-2132, ext. 166.
Red-crowned parrot | Gretchen E. Nareff, Fish and Wildlife Biologist, Texas Coastal Ecological Services Field Office, 361-225-7318.

If you use a telecommunications device for the deaf (TDD), please call the Federal Relay Service at 800-877-8339.

SUPPLEMENTARY INFORMATION:

Background

We are required to make a finding whether or not the petitioned action is warranted within 12 months after receiving any petition we determined contained substantial scientific or commercial information indicating that the petitioned action may be warranted (section 4(b)(3)(B) of the Act (16 U.S.C. 1531 et seq.)) (“12-month finding”). We must make a finding that the petitioned action is: (1) Not warranted; (2) warranted; or (3) warranted but precluded. “Warranted but precluded” means that (a) the petitioned action is warranted, but the immediate proposal of a regulation implementing the petitioned action is precluded by other pending proposals to determine whether species are endangered or threatened species, and (b) expeditious progress is being made to add qualified species to the Lists of Endangered and Threatened Wildlife and Plants (Lists) and to remove from the Lists species for which the protections of the Act are no longer necessary. Section 4(b)(3)(C) of the Act requires that we treat a petition for which the requested action is found to be warranted but precluded as though resubmitted on the date of such finding, that is, requiring that a subsequent finding be made within 12 months of that date. We must publish these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Lists. The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

In considering whether a species may meet the definition of an endangered species or a threatened species because of any of the five factors, we must look beyond the mere exposure of the species to the stressor to determine whether the species responds to the stressor in a way that causes actual impacts to the species. If there is exposure to a stressor, but no response, or only a positive response, that stressor does not cause a species to meet the definition of an endangered species or a threatened species. If there is exposure and the species responds negatively, we determine whether that stressor drives or contributes to the risk of extinction of the species such that the species warrants listing as an endangered or threatened species. The mere identification of stressors that could affect a species negatively is not sufficient to compel a finding that listing is or remains warranted. For a species to be listed or remain listed, we require evidence that these stressors are operative threats to the species and its habitat, either singly or in combination, to the point that the species meets the definition of an endangered or a threatened species under the Act.

In conducting our evaluation of the five factors provided in section 4(a)(1) of the Act to determine whether the Arkansas mudalia (Leptoxis arkansensis), ashy darter (Etheostoma cinereum), Barrens darter (Etheostoma forbesi), Pediomelum pentaphyllum (Chihuahua scurfpea), coldwater crayfish (Faxonius eupunctus), Eleven Point River crayfish (Faxonius wagneri), Spring River crayfish (Faxonius roberti), and red-crowned parrot (Amazona viridigenalis) meet the definition of “endangered species” or “threatened species,” we considered and thoroughly evaluated the best scientific and commercial information available regarding the past, present, and future stressors and threats. We reviewed the petitions, information available in our files, and other available published and unpublished information. These evaluations may include information from recognized experts; Federal, State, and tribal governments; academic institutions; foreign governments; private entities; and other members of the public.

The species assessment forms for the Arkansas mudalia, ashy darter, Barrens darter, Chihuahua scurfpea, coldwater crayfish, Eleven Point River crayfish, Spring River crayfish, and red-crowned parrot contain more detailed biological information, a thorough analysis of the listing factors, and an explanation of why we determined that these species do not meet the definition of an endangered species or a threatened species. This supporting information can be found on the internet at http://www.regulations.gov under the appropriate docket number (see ADDRESSES, above). The following are informational summaries for each of the findings in this document.

Arkansas Mudalia

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the Arkansas mudalia, as endangered or threatened species under the Act. On September 27, 2011, we published a 90-day finding in the Federal Register (76 FR 59836), concluding that the petition presented substantial information indicating the Arkansas mudalia may warrant listing. This document constitutes the 12-month finding on the April 20, 2010, petition to list the Arkansas mudalia under the Act.

Summary of Finding

The Arkansas mudalia is a freshwater snail. Its body is dark orange mottled with black and ranges in size from 7.9 to 12.2 millimeters (0.3 to 0.5 inches). Although information on its life cycle is limited, individuals likely live for 2 years and reproduce only once before death. Reproduction occurs during the spring through midsummer, and individuals need a hard, clean substrate on which to lay eggs.

The Arkansas mudalia is endemic to the White River and its tributaries in Arkansas and Missouri. The species inhabits medium- to large-sized rivers in areas of relatively fast current with course rocky substrate. The dispersal of the Arkansas mudalia is slow and restricted. Like most freshwater snails, individuals likely move much less than 1 kilometer (0.6 miles) per year. Therefore, to maintain genetic diversity and reduce the risk of extirpation, it is beneficial for multiple populations to exist in close proximity to facilitate mixing and recolonization.

We have carefully assessed the best scientific and commercial information regarding the past, present, and future threats to the Arkansas mudalia, and we evaluated all relevant factors under the five listing factors, including any regulatory mechanisms and conservation measures addressing these stressors. The primary stressors are those related to water quality, including impoundments, contaminants, sedimentation, reduced range or isolation, and climate change.

We found that the Arkansas mudalia is extant at 13 of 19 historically known sites spread through five tributaries of the White River drainage. Since 2005, several new populations have been discovered outside the historical range, indicating that the current range is larger than previously thought, although the populations are now isolated from those in other tributaries. Despite historical habitat modification and destruction from dams, which led to extirpation of some populations, extant populations appear sufficiently resilient to natural stochastic events as long as suitable habitat remains. Four newly discovered populations occur on U.S. Forest Service land, where pressures from habitat modification and degradation are minimal. In addition, the species is well represented in the White River watershed, existing in the North Fork White River watershed with multiple populations spread throughout the main stem North Fork River and some tributaries. Therefore, a single catastrophic event is unlikely to extirpate all populations within this watershed, and recolonization would likely be possible.

For these reasons, we find that these stressors do not, alone or in combination, rise to a level that causes this species to meet the definition of an endangered species or a threatened species. Therefore, we find that listing the Arkansas mudalia as an endangered species or threatened species is not warranted. A detailed discussion of the basis for this finding can be found in the Arkansas mudalia species assessment form and other supporting documents (see ADDRESSES, above).

Ashy Darter

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the ashy darter, as endangered or threatened species under the Act. On September 27, 2011, we published a 90-day finding in the Federal Register (76 FR 59836), concluding that the petition presented substantial information indicating that listing the ashy darter may be warranted. This notice constitutes the 12-month finding on the April 20, 2010, petition to list the ashy darter under the Act.

Summary of Finding

The ashy darter is a fish in the family Percidae that is endemic to the Tennessee River system in Alabama, Georgia, Tennessee, and Virginia. The ashy darter is large relative to most other darter species, attaining a maximum total length of about 100 millimeters (3.9 inches). Normal life span for the ashy darter is 3 to 4 years, and spawning occurs from January to mid-April. The primary prey items of the ashy darter are midge larvae, burrowing mayfly larvae, and oligochaete worms.

The ashy darter occurs in medium-sized streams with silt-free substrates. These are typically clear, cool- to warm-water streams with a moderate gradient. The ashy darter tends to occupy depths of 1.6 to 6.6 feet (0.5 to 2 meters) in areas of bedrock or clean gravel substrate with rocks and boulders. In the upper Tennessee River system, the species occupies backwater or pool habitats with slab rocks containing a slight layer of silt. The ashy darter has been found in close proximity to or underneath boulders and in or near beds of water willow.

We have carefully assessed the best scientific and commercial information regarding the past, present, and future threats to the ashy darter, and we evaluated all relevant factors under the five listing factors, including any regulatory mechanisms and conservation measures addressing these stressors. The primary stressors are impoundments, physical habitat disturbance, contaminants, sedimentation, reduced range, and climate change.

The ashy darter is present in six tributaries to the Tennessee River, which are isolated from one another by large impoundments. Currently, the species has two populations with high resilience (referring to the species' ability to withstand environmental or demographic stochastic disturbance), three populations with moderate resilience, and one that has unknown resilience. Two populations that have been extirpated since around 1854 and 1953. We estimate that the ashy darter has a medium adaptive potential (or representation) and despite the isolation of populations, the species' representation has been strengthened by its expansion in the Clinch River, and continues to be supported by its widespread occurrence and persistence throughout most of its historical range. The ashy darter has multiple populations occurring over a wide extent across the Tennessee River watershed, in the Upper Tennessee, Elk River, and Duck River management units, and all physiographic provinces where the species is native. The ashy darter has medium redundancy (referring to the species' ability to withstand catastrophic events) because it maintains all but two historical populations.

Overall, we find that the stressors acting on the species and its habitat, either singly or in combination, are not of sufficient imminence, intensity, or magnitude to indicate that the species meets the definition of an endangered species or a threatened species throughout all or a significant portion of its range. Therefore, we find that listing the ashy darter as endangered or threatened is not warranted. A detailed discussion of the basis for this finding can be found in the ashy darter species assessment form and other supporting documents (see ADDRESSES, above).

Barrens Darter

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the Barrens darter, as endangered or threatened species under the Act. On September 27, 2011, we published a 90-day finding in the Federal Register (76 FR 59836), concluding that the petition presented substantial information indicating that listing the Barrens darter may be warranted. This notice constitutes the 12-month finding on the April 20, 2010, petition to list the Barrens darter under the Act.

Summary of Finding

The Barrens darter is a small, drab, benthic fish, with a maximum length of 97 millimeters (3.8 inches). The species is highly endemic, with a very narrow distribution in Middle Tennessee in the headwaters of the Collins River, which is a tributary of the Caney Fork River in the Cumberland River Drainage. It is restricted to small headwater streams, although it may disperse to other headwater habitats via larger downstream reaches.

Slabrock cobble substrate provides cover for all life stages and is an important habitat feature for spawning, which occurs in April and May. During the spawning season, Barrens darters congregate in shallow riffle and run areas with roughly 4- to 12-inch slab rock cobble with cavities underneath. The species has a life span of approximately 3 years.

We have carefully assessed the best scientific and commercial information regarding the past, present, and future threats to the Barrens darter, and we evaluated all relevant factors under the five listing factors, including any regulatory mechanisms and conservation measures addressing these stressors. The primary stressors are water pollution, sedimentation, hybridization with the fringed darter, and effects of climate change.

The historical range of Barrens darter populations is small and has been reduced by the loss of two of seven populations. Species' redundancy and representation have always been low and are likely the natural condition. Three populations currently have moderate to high resiliency, while two have low resiliency due to a combination of factors, including presence of or close proximity to fringed darters, low approximate abundance, and reduced habitat and water quality. We conclude that stressors related to habitat quality (e.g., sedimentation, scouring or loss of slabrock cobble from the streambed) will likely impact the species in the future; however, the overall condition of the species is not predicted to change significantly from these impacts within the foreseeable future.

We find that the stressors acting on the species and its habitat, either singly or in combination, are not of sufficient imminence, intensity, or magnitude to indicate that the species meets the definition of an endangered species or a threatened species throughout all or a significant portion of its range. Therefore, we find that listing the Barrens darter as endangered or threatened is not warranted. A detailed discussion of the basis for this finding can be found in the Barrens darter species assessment form and other supporting documents (see ADDRESSES, above).

Chihuahua Scurfpea

Previous Federal Actions

On June 25, 2007, we received a petition from WildEarth Guardians (then Forest Guardians) to list 475 species in the southwestern United States, including Chihuahua scurfpea, as endangered or threatened under the Act. On October 15, 2008, we received an additional petition from WildEarth Guardians requesting that we list Chihuahua scurfpea, specifically, as endangered or threatened. On December 16, 2009, we published a 90-day finding in the Federal Register (74 FR 66866) in which we determined that the petitions presented substantial scientific and commercial information indicating that listing Chihuahua scurfpea may be warranted. This notice constitutes the 12-month finding on the June 25, 2007, and October 15, 2008, petitions to list Chihuahua scurfpea under the Act.

Summary of Finding

Chihuahua scurfpea is a perennial herb in the legume family that grows to approximately 25 centimeters (9.8 inches) in height. Flowers are pea-like with purple and white petals, and the fruit is a small pod 7 to 8 millimeters (0.28 to 0.31 inches) long. The species was known to occur historically in New Mexico; Arizona; Chihuahua, Mexico; and possibly western Texas. It is known currently from southwestern New Mexico and southeastern Arizona.

The species occurs in deserts and xeric shrublands of the Apache Highlands and Chihuahuan Desert ecoregions. Chihuahua scurfpea is found in areas of deep, sandy soils, occupying areas of bare ground between desert shrubs. Average annual precipitation in these regions is approximately 382 millimeters (15 inches), with 50 percent of precipitation occurring during the North American monsoon season. For much of the year, Chihuahua scurfpea exists below ground as a dormant tuber-like taproot, which fosters some degree of drought tolerance. In spring and again during the monsoon season (July to August), ample precipitation stimulates aboveground emergence, beginning the reproductive cycle. Spring flowering occurs primarily in April and May, and monsoon flowering occurs mainly in July and August.

We evaluated all relevant stressors under the five factors, including any regulatory mechanisms and conservation measures addressing these stressors. The primary stressors include herbicide used for grassland restoration, decreased precipitation from climate change, and surface disturbance. We find that although the herbicide Tebuthiuron is toxic to Chihuahua scurfpea, individuals and populations are capable of survival after herbicide treatment, provided there is sufficient precipitation. We assessed projected changes in precipitation due to climate change and found that projected precipitation levels are anticipated to be sufficient for the species' needs, including following potential impacts from Tebuthiuron application. Regarding surface disturbance, none of the potential sources of disturbance was found to occur at levels that would impact populations now or in the foreseeable future.

For these reasons, we find that these stressors do not, alone or in combination, rise to a level that causes this species to meet the definition of an endangered species or a threatened species. Therefore, we find that listing Chihuahua scurfpea as an endangered species or threatened species is not warranted. A detailed discussion of the basis for this finding can be found in the Chihuahua scurfpea species assessment form and other supporting documents (see ADDRESSES, above).

Coldwater Crayfish, Eleven Point River Crayfish, Spring River Crayfish

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the coldwater crayfish, as endangered or threatened species under the Act. On September 27, 2011, we published a 90-day finding in the Federal Register (76 FR 59836), concluding that the petition presented substantial information indicating the coldwater crayfish may warrant listing. Subsequently, a genetic and morphological study found that the coldwater crayfish is actually a taxon composed of three species: The coldwater crayfish, Eleven Point River crayfish, and Spring River crayfish. Therefore, we decided to evaluate the status of all three species. This document constitutes the 12-month finding on the April 20, 2010, petition to list the coldwater crayfish under the Act.

Summary of Finding

The coldwater crayfish, Eleven Point River crayfish, and Spring River crayfish are small, stout crayfish with blue-green heads and pincers, and reddish-brown thoraxes and abdomens. Adults are 30.5 to 71.1 millimeters (1.2 to 2.8 inches) long, with males and females generally similar in size. These crayfish species inhabit large, cold, clear permanent streams with strong, fast-flowing currents. The coldwater crayfish and Eleven Point River crayfish also inhabit pools, while the Spring River crayfish is most commonly found in riffle areas with substrate of cobble and gravel. All three species are found primarily in large order, spring-fed streams with high velocities.

The three crayfish species are found in three watersheds in Arkansas and Missouri. The coldwater crayfish and Eleven Point River crayfish are each comprised of a single population in the Eleven Point River watershed. The Spring River crayfish is comprised of three populations in the Spring River and Strawberry River watersheds.

We have carefully assessed the best scientific and commercial information regarding the past, present, and future threats to the coldwater crayfish, Eleven Point River crayfish, and Spring River crayfish, and we evaluated all relevant factors under the five listing factors, including any regulatory mechanisms and conservation measures addressing these stressors. The primary stressors affecting the coldwater crayfish, Eleven Point River crayfish, and Spring River crayfish include displacement by invasive crayfish species and degraded water quality (including, but not limited to, sedimentation).

Despite impacts from these stressors and some decline in abundance, the species have maintained resilient populations over time. Although we predict some continued impacts from these stressors in the future, we anticipate these species will continue to have resilient populations that are distributed widely throughout their ranges.

For these reasons, we find that these stressors do not, alone or in combination, rise to a level that causes these species to meet the definition of an endangered species or a threatened species. Therefore, we find that listing the coldwater crayfish, Eleven Point River crayfish, and Spring River crayfish as an endangered species or threatened species is not warranted. A detailed discussion of the basis for this finding can be found in the coldwater crayfish, Eleven Point River crayfish, and Spring River crayfish species assessment forms and other supporting documents (see ADDRESSES, above).

Red-Crowned Parrot

Previous Federal Actions

On January 29, 2008, we received a petition from Friends of Animals requesting that we list 14 parrot species, including the red-crowned parrot, as endangered or threatened species under the Act. On July 14, 2009, we published a 90-day finding in the Federal Register (74 FR 33957) in which we determined that the petition presented substantial scientific and commercial information to indicate that listing the red-crowned parrot may be warranted. On October 6, 2011, we published a 12-month finding in the Federal Register (76 FR 62016) in which we stated that listing the red-crowned parrot as endangered or threatened was warranted primarily due to habitat loss and collection for the pet trade in Mexico and the inadequacy of regulatory mechanisms. However, listing was precluded at that time by higher priority actions, and the species was added to the candidate species list. From 2012 through 2016, we addressed the status of the red-crowned parrot annually in our candidate notice of review, with the determination that listing was warranted but precluded (see 77 FR 69994, November 21, 2012; 78 FR 70104, November 22, 2013; 79 FR 72450, December 5, 2014; 80 FR 80584, December 24, 2015; 81 FR 87246, December 2, 2016).

Summary of Finding

The red-crowned parrot is medium-sized (33 centimeters (13 inches)) and is bright green with a red crown and blue head and neck. The species is native to forests in northeastern Mexico; however, the range has expanded within the past several decades into ranchlands and urban areas in and adjacent to its historical range in Mexico and into cities in the Lower Rio Grande Valley of south Texas.

Red-crowned parrots are cavity nesters, using pre-existing cavities in a variety of native tree species in Mexico and ornamental palms in residential areas of south Texas. The species eats a variety of nuts, berries, seeds, fruits, and flowers, using primarily native plants in forests and ranchlands in Mexico, and foraging on ornamental and fruit and nut trees in urban and suburban areas of Mexico and south Texas.

We evaluated all relevant stressors under the five factors, including any regulatory mechanisms and conservation measures addressing these stressors. The primary stressors include habitat loss and collection for the pet trade. We find that, although much of the red-crowned parrot's native forest habitat in Mexico was removed throughout the 20th century, logging has declined over the past three decades, and forest regeneration has occurred in some areas. In addition, red-crowned parrot populations have become established in ranchland habitats in Mexico and in urban habitats in Mexico and south Texas, where resources for nesting and foraging have allowed for stable or increasing population sizes. Collection for the pet trade led to decreased population sizes in Mexico throughout the early to mid-20th century. However, laws passed between 1982 and 2008 in Mexico banned the collection and export of parrots, and greatly reduced the numbers of red-crowned parrots captured for the pet trade.

For these reasons, we find that these stressors do not, alone or in combination, rise to a level that causes this species to meet the definition of an endangered species or a threatened species. Therefore, we find that listing the red-crowned parrot as an endangered species or threatened species is not warranted. A detailed discussion of the basis for this finding can be found in the red-crowned parrot species assessment form and other supporting documents (see ADDRESSES, above).

New Information

We request that you submit any new information concerning the taxonomy of, biology of, ecology of, status of, or stressors to the Arkansas mudalia, ashy darter, Barrens darter, Chihuahua scurfpea, coldwater crayfish, Eleven Point River crayfish, Spring River crayfish, and red-crowned parrot to the appropriate person, as specified under FOR FURTHER INFORMATION CONTACT, whenever it becomes available. New information will help us monitor these species and make appropriate decisions about their conservation and status. We encourage local agencies and stakeholders to continue cooperative monitoring and conservation efforts.

References Cited

Lists of the references cited in the petition findings are available on the internet at http://www.regulations.gov in the dockets provided above in ADDRESSES and upon request from the appropriate person, as specified under FOR FURTHER INFORMATION CONTACT.

Authors

The primary authors of this document are the staff members of the Species Assessment Team, Ecological Services Program.

Authority

The authority for this action is section 4 of the Endangered Species Act of 1973, as amended (16 U.S.C. 1531 et seq.).

Dated: March 27, 2019.
Margaret E. Everson,
Principal Deputy Director, U.S. Fish and Wildlife Service, Exercising the Authority of the Director, U.S. Fish and Wildlife Service.

[FR Doc. 2019-06535 Filed 4-3-19; 8:45 am]

BILLING CODE 4333-15-P